DEPARTMENT OF LABOR

Office of the Secretary

Submission for OMB Emergency Review; Comment Request

February 17, 2005.

The Department of Labor has submitted the following information collection request (ICR), utilizing emergency review procedures, to the Office of Management and Budget (OMB) for review and approval in accordance with the Paperwork Reduction Act of 1995 (P.L. 104-13, 44 U.S.C. Chapter 35). OMB approval has been requested by March 15, 2005. A copy of this ICR, with applicable supporting documentation, may be obtained by calling the Department of Labor's Departmental Clearance Officer/Team Leader, Ira L. Mills at (202) 693-4122 (this is not a toll-free number); via e-mail at: mills.ira@dol.gov; (202) 693-7755 (TTY); or at the Web site: http://www.doleta.gov/usworkforce.

Comments and questions about the ICR listed below should be forwarded to the Office of Information and Regulatory Affairs, Attn: OMB Desk Officer for the Employment and Training Administration, Room 10235, Washington, DC 20503.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Type of Review: Revision of a currently approved collection.

Title: State Unified Plan Planning Guidance for State Unified Plans submitted under Section 501 of the Workforce Investment Act of 1998.

OMB Number: 1205-0407.

Frequency: Every five years.

Type of Response: Reporting.

Affected Public: State, local, or tribal government.

Total Respondents: 59.

Number of Annual Responses: 59.

Estimated Time Per Response: 25 hours.

Total Burden: 1,475.

Total Annualized capital/startup cost): $ 0.

Total Annual Costs (operating/maintaining systems or purchasing services): $ 0.

Description: All current Workforce Investment Act (WIA) State Plans will expire June 30, 2005. It is unlikely that Congress will pass a reauthorized WIA before that time. Therefore, the WIA State Unified Planning Guidance is designed to advise States about how to continue their Workforce Investment Act programs under Public Law 105-220.

Ira L. Mills,
Departmental Clearance Officer/Team Leader.

[FR Doc. 05-3490 Filed 2-23-05; 8:45 am]

BILLING CODE 4510-30-P